DEPARTMENT OF TRANSPORTATION

Federal Aviation Administration

14 CFR Part 97

[Docket No. 30819; Amdt. No. 3458]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 9, 2012. The compliance date for each SIAP, associated Takeoff Minimums, and ODP is specified in the amendatory provisions.

The incorporation by reference of certain publications listed in the regulations is approved by the Director of the Federal Register as of January 9, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or

4. The National Archives and Records Administration (NARA). For information on the availability of this material at NARA, call (202) 741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on December 23, 2011.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 9 FEB 2012

Barrow, AK, Wiley Post-Will Rogers Memorial, ILS OR LOC/DME RWY 7, Orig-A

Birmingham, AL, Birmingham-Shuttlesworth Intl, Takeoff Minimums and Obstacle DP, Amdt 6

Arcata/Eureka, CA, Arcata, ILS Y OR LOC/DME RWY 32, Amdt 2

Arcata/Eureka, CA, Arcata, ILS Z RWY 32, Amdt 30

Arcata/Eureka, CA, Arcata, RNAV (GPS) RWY 1, Amdt 1

Arcata/Eureka, CA, Arcata, RNAV (GPS) RWY 14, Amdt 1

Arcata/Eureka, CA, Arcata, RNAV (GPS) RWY 32, Amdt 1

Arcata/Eureka, CA, Arcata, Takeoff Minimums and Obstacle DP, Amdt 7

Arcata/Eureka, CA, Arcata, VOR/DME RWY 1, Amdt 8

Arcata/Eureka, CA, Arcata, VOR/DME RWY 14, Amdt 1

San Diego, CA, San Diego Intl, LOC RWY 27, Amdt 4

San Diego, CA, San Diego Intl, RNAV (GPS) RWY 27, Amdt 2

South Lake Tahoe, CA, Lake Tahoe, Takeoff Minimums and Obstacle DP, Amdt 6

Greeley, CO, Greeley-Weld County, VOR-A, Amdt 9

Rota Island-North Mariana Island, CQ, Rota Intl, GPS RWY 9, Orig-C, CANCELLED

Rota Island-North Mariana Island, CQ, Rota Intl, GPS RWY 27, Orig-C, CANCELLED

Rota Island-North Mariana Island, CQ, Rota Intl, RNAV (GPS) RWY 9, Orig

Rota Island-North Mariana Island, CQ, Rota Intl, RNAV (GPS) RWY 27, Orig

Groton/New London, CT, Groton-New London, Takeoff Minimums and Obstacle DP, Amdt 8

Wilmington, DE, New Castle, VOR RWY 1, Amdt 4, CANCELLED

Wilmington, DE, New Castle, VOR RWY 27, Amdt 4

Leesburg, FL, Leesburg Intl, RNAV (GPS) RWY 3, Amdt 1A

Tallahassee/Havana, FL, Tallahassee Commercial, RNAV (GPS) RWY 16, Orig, CANCELLED

Tallahassee/Havana, FL, Tallahassee Commercial, Takeoff Minimums and Obstacle DP, Orig, CANCELLED

Tallahassee/Havana, FL, Tallahassee Commercial, VOR OR GPS-A, Amdt 5B, CANCELLED

Brunswick, GA, Malcolm McKinnon, Takeoff Minimums and Obstacle DP, Amdt 3

Thomasville, GA, Thomasville Rgnl, ILS OR LOC RWY 22, Orig-B

Kaunakakai, HI, Molokai, VOR OR TACAN-A, Amdt 16

Lihue, HI, Lihue, VOR/DME OR TACAN RWY 21, Amdt 4A

Sioux City, IA, Sioux Gateway/Col Bud Day Field, ILS OR LOC RWY 13, Amdt 2

Champaign/Urbana, IL, University of Illinois-Willard, LOC/DME BC RWY 14L, Amdt 8A, CANCELLED

Augusta, KS, Augusta Muni, GPS RWY 36, Orig, CANCELLED

Augusta, KS, Augusta Muni, RNAV (GPS) RWY 36, Orig

Augusta, KS, Augusta Muni, Takeoff Minimums and Obstacle DP, Amdt 1

Hazard, KY, Wendell H Ford, LOC/DME RWY 14, Orig

Westminster, MD, Clearview Airpark, RNAV (GPS) RWY 14, Amdt 1

Detroit, MI, Willow Run, VOR-A, Amdt 1

Forsyth, MT, Tillitt Field, NDB RWY 26, Amdt 3

Forsyth, MT, Tillitt Field, Takeoff Minimums and Obstacle DP, Orig

Glasgow, MT, Wokal Field/Glasgow Intl, GPS RWY 12, Orig, CANCELLED

Glasgow, MT, Wokal Field/Glasgow Intl, NDB RWY 30, Amdt 2

Glasgow, MT, Wokal Field/Glasgow Intl, RNAV (GPS) RWY 12, Orig

Glasgow, MT, Wokal Field/Glasgow Intl, RNAV (GPS) RWY 30, Orig

Glasgow, MT, Wokal Field/Glasgow Intl, VOR RWY 30, Amdt 4

Laurel, MT, Laurel Muni, RNAV (GPS) RWY 4, Amdt 1

Laurel, MT, Laurel Muni, RNAV (GPS) RWY 22, Amdt 1

Mohall, ND, Mohall Muni, VOR/DME RWY 31, Amdt 2C, CANCELLED

Mohall, ND, Mohall Muni, VOR/DME-A, Orig

Pender, NE., Pender Muni, RNAV (GPS) RWY 15, Orig

Pender, NE., Pender Muni, RNAV (GPS) RWY 33, Orig

Pender, NE., Pender Muni, Takeoff Minimums and Obstacle DP, Orig

Blairstown, NJ, Blairstown, RNAV (GPS) RWY 25, Amdt 2

West Milford, NJ, Greenwood Lake, RNAV (GPS) RWY 6, Amdt 1

West Milford, NJ, Greenwood Lake, RNAV (GPS) RWY 24, Orig

West Milford, NJ, Greenwood Lake, Takeoff Minimums and Obstacle DP, Amdt 2

Waverly, TN, Humphreys County, NDB RWY 21, Amdt 3B

Arlington, TX, Arlington Muni, ILS OR LOC/DME RWY 34, Amdt 2

Arlington, TX, Arlington Muni, RNAV (GPS) RWY 34, Amdt 3

Atlanta, TX, Hall-Miller Muni, Takeoff Minimums and Obstacle DP, Amdt 2

Bay City, TX, Bay City Muni, GPS RWY 13, Orig-B, CANCELLED

Bay City, TX, Bay City Muni, GPS RWY 31, Orig-B, CANCELLED

Bay City, TX, Bay City Muni, RNAV (GPS) RWY 13, Orig

Bay City, TX, Bay City Muni, RNAV (GPS) RWY 31, Orig

Denton, TX, Denton Muni, RNAV (GPS) RWY 36, Amdt 1

El Paso, TX, El Paso Intl, RNAV (GPS) Y RWY 26L, Amdt 1

El Paso, TX, El Paso Intl, VOR RWY 26L, Amdt 32

Houston, TX, Sugar Land Rgnl, ILS OR LOC RWY 35, Amdt 4

Houston, TX, Sugar Land Rgnl, RNAV (GPS) RWY 35, Amdt 2

Houston, TX, Sugar Land Rgnl, VOR/DME-A, Amdt 2

Marshall, TX, Harrison County, GPS RWY 33, Orig-F, CANCELLED

Marshall, TX, Harrison County, RNAV (GPS) RWY 15, Orig

Marshall, TX, Harrison County, RNAV (GPS) RWY 33, Orig

Marshall, TX, Harrison County, Takeoff Minimums and Obstacle DP, Orig

Monahans, TX, Roy Hurd Memorial, GPS RWY 12, Orig-B, CANCELLED

Monahans, TX, Roy Hurd Memorial, GPS RWY 30, Orig-B, CANCELLED

Monahans, TX, Roy Hurd Memorial, RNAV (GPS) RWY 12, Orig

Monahans, TX, Roy Hurd Memorial, RNAV (GPS) RWY 30, Orig

Vernal, UT, Vernal Rgnl, RNAV (GPS) RWY 34, Amdt 1

Hoquiam, WA, Bowerman, ILS OR LOC/DME RWY 24, Amdt 4

Hoquiam, WA, Bowerman, RNAV (GPS) RWY 24, Amdt 2

Port Angeles, WA, Port Angeles CGAS, COPTER NDB 242, Amdt 1

Port Angeles, WA, Port Angeles CGAS, COPTER RNAV (GPS) RWY 26, Orig

Port Angeles, WA, Port Angeles CGAS, Takeoff Minimums and Obstacle DP, Amdt 4

Madison, WI, Dane County Rgnl—Truax Field, ILS OR LOC/DME RWY 18, Amdt 1A

Madison, WI, Dane County Rgnl—Truax Field, ILS OR LOC/DME RWY 36, Amdt 1A

[FR Doc. 2012-25 Filed 1-6-12; 8:45 am]

BILLING CODE 4910-13-P